DEPARTMENT OF THE TREASURY

Submission for OMB Review; Comment Request

April 11, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 22, 2000 to be assured of consideration.

Internal Revenue Service (IRS)

OMB Number: 1545-0887.

Form Number: IRS Form 8281.

Type of Review: Extension.

Title: Information Return for Publicly Offered Original Issue Discount Instruments.

Description: Form 8281 is filed by the issuer of a publicly offered debt instrument having Original Issue Discount (OID). The information is used to update Publication 1212, “List of Original Issue Discount Instruments.

Estimated Number of Respondents/Recordkeepers: 500.

Estimated Burden Hours per Respondent/Recordkeeper
Recordkeeping | 5 hr., 1 min.
Learning about the law or the form | 30 min.
Preparing, copying, assembling, and sending the form to the IRS | 37 min.

Frequency of Response: On occasion, Annually.

Estimated Total Reporting/Recordkeeping Burden: 3,065 hours.

OMB Number: 1545-1518.

Form Number: IRS Form 5498-MSA.

Type of Review: Extension.

Title: MSA or Medicate+Choice MSA Information.

Description: Form 5498-MSA is used to report contributions to a medical savings account as set forth in section 220(h).

Estimated Number of Respondents: 16,442.

Estimated Burden Hours Per Respondent: 10 minutes.

Frequency of Response: Annually.

Estimated Total Reporting Burden: 6,988 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports Management Officer.

[FR Doc. 00-9872 Filed 4-19-00; 8:45 am]

BILLING CODE 4830-01-P